DEPARTMENT OF HEALTH AND HUMAN SERVICES

Food and Drug Administration

21 CFR Part 522

Implantation or Injectable Dosage Form New Animal Drugs; Change of Sponsor; Correction

AGENCY: Food and Drug Administration, HHS.

ACTION: Final rule; correction.

SUMMARY: The Food and Drug Administration (FDA) is correcting a final rule that appeared in the Federal Register of June 10, 2003 (68 FR 34533). The document amended the animal drug regulations to reflect a change of sponsor for two approved new animal drug applications (NADAs) from Anthony Products Co. to Cross Vetpharm Group Ltd. The document was published with an error. This document corrects that error.

EFFECTIVE DATE: July 18, 2003.

FOR FURTHER INFORMATION CONTACT: Joyce A. Strong, Office of Policy (HF-27), Food and Drug Administration, 5600 Fishers Lane, Rockville, MD 20857, 301-827-7010.

SUPPLEMENTARY INFORMATION: In the FR Doc. 03-14547, appearing on page 34533 in the Federal Register of Tuesday, June 10, 2003, the following correction is made:

§ 522.1696b [Corrected]

1. On page 34534, in the second column, the last line in the amendatory language for § 522.1696b Penicillin G procaine aqueous suspension is corrected to read “010515, 053501, 059130, and 61623”.

Dated: July 7, 2003.
Stephen F. Sundlof,
Director, Center for Veterinary Medicine.

[FR Doc. 03-18161 Filed 7-17-03; 8:45 am]

BILLING CODE 4160-01-S